DEPARTMENT OF THE INTERIOR

Bureau of Land Management

[XXXL8069TF LLUTC03000.L71220000.EU0000.LVTFJ0995850; UTU-90587]

Notice of Realty Action: Proposed Non-Competitive (Direct) Sale of Public Lands in Washington County, UT

AGENCY: Bureau of Land Management, Interior.

ACTION: Notice of realty action.

SUMMARY: The Bureau of Land Management (BLM) is proposing a non-competitive (direct) sale of .44-acres in Washington County, Utah, at not less than the appraised value of $16,720 to the Ridgepointe Homeowners Association South, Inc., whose members own homes on the adjoining private land. The sale parcel will be offered pursuant to Section 203 and Section 209 of the Federal Land Policy and Management Act of 1976 and the applicable BLM land-sale regulations.

DATES: Interested parties may submit written comments regarding the proposed sale of public land until November 13, 2014. The public sale would not occur prior to November 28, 2014. Comments may be mailed, hand delivered, or faxed to 435-688-3252. Telephone calls and email will not be accepted.

ADDRESSES: Submit written comments to the BLM, St. George Field Office, Field Manager, 345 E. Riverside Drive, St. George, UT 84790.

FOR FURTHER INFORMATION CONTACT: Teresa Burke by email: tsburke@blm.gov, or by telephone: 435-688-3326. Persons who use a telecommunications device for the deaf (TDD) may call the Federal Information Relay Service (FIRS) at 1-800-877-8339 to leave a message or question for the above individual. The FIRS is available 24 hours a day, 7 days a week. You will receive a reply during normal business hours.

SUPPLEMENTARY INFORMATION: The BLM proposes to offer for direct sale the following described public land:

Salt Lake Meridian, Utah

T. 42 S., R. 15 W.,

Sec. 13, lots 6 and 7.

The area described aggregate .44-acres.

This direct sale is in conformance with the St. George Resource Management Plan (RMP), approved in March 1999. The parcel is identified for disposal in the RMP Record of Decision (decision LD-06), and is not needed for any other Federal purpose. The sale parcel was analyzed in a site-specific Environmental Analysis numbered DOI-BLM-UT-C030-2011-0005-EA. The parcel is being offered as a direct sale to Ridgepointe Homeowners Association South, Inc., in order to resolve inadvertent development by multiple homeowners on a 20-foot strip of public land that adjoins the Ridgepointe Subdivision. The BLM found the unauthorized use when preparing the adjoining BLM acreage for a competitive sale. The .44-acre parcel is the smallest legal subdivision that would wholly encompass the unauthorized improvements. 43 CFR 2711.3-3(a) provides for a direct sale to protect the existing equities or where there is a need to resolve an inadvertent unauthorized use or occupancy of the land. A mineral potential report concluded the parcel contains no known mineral values; therefore, the mineral interest would be conveyed with the surface. Revenue from the sale would be deposited in the Washington County Land Acquisition Account, pursuant to the Omnibus Public Land Management Act of 2009, Subtitle O.

The conveyance documents for the parcel identified above will contain the following reservations, terms, and conditions:

1. A right-of-way reservation for ditches or canals constructed by authority of the United States under the Act of August 30, 1890 (43 U.S.C. 945).

2. The conveyance will be subject to all valid existing rights of record.

3. An appropriate indemnification clause protecting the United States from claims arising out of the patentee's use, occupancy, or occupations on the patented land.

On publication of this notice and until completion of the sale, the BLM is no longer accepting land use applications affecting the parcel identified for sale. The parcel was segregated for a 2-year period from appropriation under the public land and mining laws on August 7, 2012 (77 FR 47090). Publication of this notice serves to extend the segregation period for an additional 2 years pursuant to 43 CFR 2711.1-2(d). On July 1, 2014, the State Director determined in writing that this extension is necessary in order to provide adequate time to complete the land sale process.

Information concerning the sale, including the appraisal, planning and environmental documents, and mineral report are available for review during business hours, 7:30 a.m. to 4:30 p.m., Mountain Time, Monday through Friday, at the BLM, St. George Field Office, except during Federal holidays.

Before including an address, phone number, email address, or other personal identifying information in any comment, be aware that your entire comment, including any personal identifying information may be made publicly available at any time. Requests to withhold personal identifying information from public review can be submitted, but the BLM cannot guarantee that it will be able to do so.

Any adverse comments regarding the proposed sale will be reviewed by the BLM Utah State Director or other authorized official of the Department of the Interior, who may sustain, vacate, or modify this realty action. In the absence of any adverse comments, this realty action will become the final determination of the Department of the Interior.

Authority: 43 CFR 2710, 43 CFR 2711, and 43 CFR 2720.

Jenna Whitlock,
Associate State Director.

[FR Doc. 2014-23068 Filed 9-26-14; 8:45 am]

BILLING CODE 4310-DQ-P